SECURITIES AND EXCHANGE COMMISSION

[File No. 500-1]

Amogear Inc.; Order of Suspension of Trading

February 10, 2014.

It appears to the Securities and Exchange Commission that there is a lack of current and accurate information concerning the securities of Amogear Inc. (“Amogear”), quoted under the ticker symbol AMOG, because the company has recently been the subject of spam emails touting the company's shares and because of potentially manipulative conduct in the trading of the company's shares.

The Commission is of the opinion that the public interest and the protection of investors require a suspension of trading in the securities of the above-listed company.

Therefore, it is ordered, pursuant to Section 12(k) of the Securities Exchange Act of 1934, that trading in the securities of the above-listed company is suspended for the period from 8:30 a.m. EST on February 10, 2014 through 11:59 p.m. EST on February 24, 2014.

By the Commission.
Elizabeth M. Murphy,
Secretary.

[FR Doc. 2014-03146 Filed 2-10-14; 11:15 am]

BILLING CODE 8011-01-P